DEPARTMENT OF JUSTICE

Notice of Lodging of Settlement Stipulation Under the Comprehensive Environmental Response, Compensation and Liability Act

Notice is hereby given that on January 28, 2005, a proposed Settlement Agreement in In re Armstrong World Industries, Inc., et al. Case No. 00-4471 (Bankr. D. Del.), was lodged with the United States Bankruptcy Court for the District of Delaware. In this action, the United States filed a proof of claim on behalf of the U.S. Environmental Protection Agency (“EPA”), against Armstrong World Industries, Inc. (“AWI”), seeking the recovery of response costs incurred at seven sites under section 104(a) of the Comprehensive Environmental Response, Compensation and Liability Act, as amended, 42 U.S.C. 9604(a).

Under the proposed Settlement Agreement, the claims of the United States regarding 19 “Liquidated Sites” will be resolved for a total of $8,727,738.80. In addition, the proposed Settlement Agreement will permit EPA to resolve in due course any alleged liabilities of AWI at any “Additional Sites” (e.g., presently unknown sites), whether prior to or following the effective date of a confirmed reorganization plan. Any settlements reached or judgments obtained regarding such Sites will be paid at the rate at which general unsecured claims against AWI will be paid. Under AWI's proposed Fourth Amended Plan of Reorganization (the “Plan”), which has been approved by the United States Bankruptcy Court for the District of Delaware and is pending before the District Court, that rate is 59.5%. In addition, the United States has agreed that any claims which EPA may have at 18 identified sites, where EPA upon investigation does not believe it has claims, will be discharged upon confirmation of the Plan.

The Department of Justice will receive for a period of thirty (30) days from the date of this publication comments relating to the proposed Settlement Agreement. Comments should be addressed to the Assistant Attorney General, Environment and Natural Resources Division, PO Box 7611, U.S. Department of Justice, Washington, DC 20044-7611, and should refer to In re Armstrong World Industries, Inc., DJ No. 90-11-3-07780.

The proposed Settlement Agreement may be examined at the office of the United States Attorney, District of Delaware, 1007 N. Orange Street, Suite 700, Wilmington, Delaware 19801, and at the Office of the Regional Counsel, U.S. Environmental Protection Agency, Region III, 1650 Arch St., Philadelphia, Pennsylvania 19103. During the comment period, the Stipulation and Agreement may also be examined on the following Department of Justice Web site, http://www.usdoj.gov/enrd/open.html. A copy of the Stipulation and Agreement may be obtained by mail from the Consent Decree Library, PO Box 7611, U.S. Department of Justice Washington, DC 20044-7611 or by faxing or e-mailing a request to Tonia Fleetwood (tonia.fleetwood@usdoj.gov). fax no. (202) 514-0097, phone confirmation number (202) 514-1547. In requesting a copy from the Consent Decree Library, please enclose a check in the amount of $7.50 (25 cents per page reproduction cost) payable to the U.S. Treasury. In all correspondence, please refer to the case by its title and DOJ Ref. #90-11-3-07780.

Robert D. Brook,
Assistant Chief, Environmental Enforcement Section, Environment and Natural Resources Division.

[FR Doc. 05-2550 Filed 2-9-05; 8:45 am]

BILLING CODE 4410-15-M